DEPARTMENT OF COMMERCE

National Oceanic and Atmospheric Administration

Deep Seabed Mining: Request for Extension of Exploration Licenses

AGENCY: Office for Coastal Management, National Ocean Service, National Oceanic and Atmospheric Administration (NOAA), Department of Commerce.

ACTION: Notice of receipt of application to extend Deep Seabed Mineral Exploration Licenses USA-1 and USA-4; request for comments.

SUMMARY: Pursuant to the Deep Seabed Hard Mineral Resources Act the National Oceanic and Atmospheric Administration has received an application for five-year extensions of Deep Seabed Mining Exploration Licenses USA-1 and USA-4 that are held by the Lockheed Martin Corporation (“Lockheed Martin” or the “Licensee”). The application includes a revised exploration plan that sets forth the activities to be conducted during the extended period of the license.

DATES: Individuals and organizations intending to submit comments on the extension request should do so by May 22, 2017.

ADDRESSES: Hard-copy comments should be submitted to Kerry Kehoe, Stewardship Division (N/OCM6), Office for Coastal Management, National Oceanic and Atmospheric Administration, 1305 East-West Highway, Silver Spring, Maryland 20910.

FOR FURTHER INFORMATION CONTACT: Kerry Kehoe at 240-533-0782; email Kerry.Kehoe@noaa.gov.

SUPPLEMENTARY INFORMATION: Pursuant to the Deep Seabed Hard Mineral Resources Act (DSHMRA; 30 U.S.C. 1401-1473), the National Oceanic and Atmospheric Administration has received an application for five-year extensions of Deep Seabed Mining Exploration Licenses USA-1 and USA-4 that are held by the Lockheed Martin Corporation (“Lockheed Martin” or the “Licensee”). The application includes a revised exploration plan that sets forth the activities to be conducted during the extended period of the license.

The current terms of Exploration Licenses USA-1 and USA-4 end on June 2, 2017. Section 107(a) of DSHMRA provides that NOAA shall extend exploration licenses for a term of not more than five years if the licensee has substantially complied with the license and exploration plan and has requested an extension of the license. 30 U.S.C. 1417.

Lockheed Martin has submitted this request to extend its existing DSHMRA licenses for five years, and thereby, maintain the interests and rights these exploration licenses may convey. Given that at-sea exploration activities are contingent upon certain events that have not yet occurred, Lockheed Martin has adjusted its exploration schedule. During the proposed five-year extension, the Licensee will continue to conduct various preparatory activities in advance of at-sea exploration, which may become feasible at some future date. In order for at-sea exploration to be feasible, Lockheed Martin has stated that both improvement in the condition of the metals markets, and United States accession to the 1982 Law of the Sea Convention, as modified by the 1994 Implementing Agreement, are necessary.

In light of these two unmet prerequisites, Lockheed Martin is not proposing to conduct at-sea exploration activities at this time, and approval of this extension request would not in and of itself authorize the Licensee to conduct at-sea exploration. If this extension request is granted, Lockheed Martin will need to obtain additional authorization from NOAA before it would be authorized to conduct at-sea exploration activities under these licenses. Among other requirements, authorization to conduct at-sea exploration activities would require NOAA to consider additional environmental analysis that may be necessary pursuant to NOAA's obligations under the National Environmental Policy Act, 42 U.S.C. 4321 et seq., and DSHMRA.

The request for extension and revised exploration plan can be viewed at www.regulations.gov, by searching for docket number “NOAA-NOS-2017-0019”. NOAA is seeking comments on the request to extend USA-1 and USA-4 including, but not limited to, whether there has been substantial compliance with the licenses and exploration plans, and whether the revised exploration plans for USA-1 and USA-4 meet the terms, conditions and restrictions of DSHMRA and the licenses issued thereunder. All electronically submitted comments must be received through the www.regulations.gov, Web site by the date noted below. Submissions made by email will not be accepted. Comments may also be mailed to the address provided below. Mailed comments will be accepted if postmarked before the comment period has ended.

Dated: April 11, 2017.
W. Russell Callender,
Assistant Administrator for Ocean Services and Coastal Zone Management, National Oceanic and Atmosphere Administration.

[FR Doc. 2017-07987 Filed 4-19-17; 8:45 am]

BILLING CODE 3510-08-P